ENVIRONMENTAL PROTECTION AGENCY

[EPA-HQ-OPP-2013-0611; FRL-9398-5]

Cancellation of Pesticides for Non-Payment of Year 2013 Registration Maintenance Fees

AGENCY: Environmental Protection Agency (EPA).

ACTION: Notice.

SUMMARY: Since the amendments of October 1988, the Federal Insecticide, Fungicide, and Rodenticide Act (FIFRA) has required payment of an annual maintenance fee to keep pesticide registrations in effect. The fee due last January 15, 2013, has gone unpaid for 220 registrations. Section 4(i)(5)(G) of FIFRA provides that the EPA Administrator may cancel these registrations by order and without a hearing; orders to cancel all 220 of these registrations have been issued within the past few days.

DATES: A cancellation is effective on the date the cancellation order is signed.

FOR FURTHER INFORMATION CONTACT: Michael Yanchulis, Information Technology and Resources Management Division (7502P), Office of Pesticide Programs, Environmental Protection Agency, 1200 Pennsylvania Ave. NW., Washington, DC 20460-0001; telephone number: (703) 347-0237; email address: yanchulis.michael@epa.gov.

SUPPLEMENTARY INFORMATION:

I. General Information

A. Does this action apply to me?

This action is directed to the public in general. Although this action may be of particular interest to persons who produce or use pesticides, the Agency has not attempted to describe all the specific entities that may be affected by this action. If you have any questions regarding the information in this notice, consult the person listed under FOR FURTHER INFORMATION CONTACT.

B. How can I get copies of this document and other related information?

EPA has established a docket for this action under docket identification (ID) number EPA-HQ-OPP-2013-0611. Publicly available docket materials are available either in the electronic docket at http://www.regulations.gov or at the Office of Pesticide Programs Regulatory Public Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Background

Section 4(i)(5) of FIFRA, as amended in October 1988 (Pub. L. 100-532), December 1991 (Pub. L. 102-237), and again in August 1996 (Pub. L. 104-170), requires that all pesticide registrants pay an annual registration maintenance fee, due by January 15 of each year, to keep their registrations in effect. This requirement applies to all registrations granted under FIFRA section 3 as well as those granted under FIFRA section 24(c) to meet special local needs. Registrations for which the fee is not paid are subject to cancellation by order and without a hearing.

The Food, Agriculture, Conservation, and Trade Act Amendments of 1991, Public Law 102-237, amended FIFRA to allow the EPA Administrator to reduce or waive maintenance fees for minor agricultural use pesticides when she determines that the fee would be likely to cause significant impact on the availability of the pesticide for the use. The Agency has waived the fee for 226 minor agricultural use registrations at the request of the registrants.

In fiscal year 2013, maintenance fees were collected in one billing cycle. The Pesticide Registration Improvement Renewal Act (PRIRA) was passed by Congress in October 2007. PRIRA authorized the Agency to collect $27.8 million dollars in maintenance fees in fiscal year 2012. In late 2012, all holders of either FIFRA section 3 registrations or FIFRA section 24(c) registrations were sent lists of their active registrations, along with forms and instructions for responding. They were asked to identify which of their registrations they wished to maintain in effect, and to calculate and remit the appropriate maintenance fees. Most responses were received by the statutory deadline of January 15. A notice of intent to cancel was sent in March, 2013, to companies who did not respond and to companies who responded, but paid for less than all of their registrations. Since mailing the notices of intent to cancel, EPA has maintained a toll-free inquiry number through which the questions of affected registrants have been answered.

Maintenance fees have been paid for 15,804 FIFRA section 3 registrations, or about 97% of the registrations on file in December 2012. Fees have been paid for 1,941 FIFRA section 24(c) registrations, or about 86% of the total on file in December 2012. Cancellations for non-payment of the maintenance fee affect 196 FIFRA section 3 registrations and 24 FIFRA section 24(c) registrations.

The cancellation orders generally permit registrants to continue to sell and distribute existing stocks of the canceled products until January 15, 2014, 1 year after the date on which the fee was due. Existing stocks already in the hands of dealers or users, however, can generally be distributed, sold, or used legally until they are exhausted. Existing stocks are defined as those stocks of a registered pesticide product which are currently in the United States and which have been packaged, labeled, and released for shipment prior to the effective date of the cancellation order.

The exceptions to these general rules are cases where more stringent restrictions on sale, distribution, or use of the products have already been imposed, through special reviews or other Agency actions. These general provisions for disposition of stocks should serve in most cases to cushion the impact of these cancellations while the market adjusts.

III. Listing of Registrations Canceled for Non-Payment

Table 1 of this unit lists all of the FIFRA section 24(c) registrations, and Table 2 of this unit lists all of the FIFRA section 3 registrations which were canceled for non-payment of the 2013 maintenance fee. These registrations have been canceled by order and without hearing. Cancellation orders were sent to affected registrants via certified mail in the past several days. The Agency is unlikely to rescind cancellation of any particular registration unless the cancellation resulted from Agency error.

Table 1—FIFRA Section 24(c) Registrations Cancelled for Non-Payment of 2013 Maintenance Fee
SLN No. | Product name
AR-08-0005 | Superwham! (alternate Name for Wham! EZ)
AR-08-0006 | Riceshot
AR-08-0007 | Ricepro
AR-08-0008 | Duet
AR-08-0009 | Superwham! (alternate Name for Wham! EZ)
AR-08-0013 | Ricebeaux
AR-12-0001 | Ricebeaux Herbicide
AR-12-0002 | Ricebeaux
AR-12-0003 | Ricepro
AR-12-0006 | Ricebeaux
AR-12-0007 | Wham! EZ
CA-08-0007 | Plantshield HC Biological Fungicide
CA-11-0003 | Temik Brand 15G Aldicarb Pesticide
CA-87-0038 | Griffin Direx 4L Herbicide
CA-97-0022 | Elite 45 DF Foliar Fungicide
ID-03-0015 | Pyristar Microencapsulated Insecticide Seed Treatment
ID-07-0007 | Honcho Plus
MN-07-0006 | Chem Sect Brand Chem Fish Synergized
MS-05-0011 | Meychem Glyphosate Herbicide (ABN Wise Up Plus Glyphosate Herbicide)
MT-12-0001 | Sun Pac Mildewcide
OH-02-0004 | Slimicide C-74
OR-05-0013 | Honcho Plus Herbicide
TX-10-0020 | Kaput Combo Bait Mini Blocks for Rodents & Fleas
WA-07-0010 | Pear Wrap Treated with Ethoxyquin

Table 2—FIFRA Section 3 Registrations Cancelled for Non-Payment of 2013 Maintenance Fee
Registration No. | Product name
000577-00541 | Cuprinol Wood Preservative Green No. 10
000577-00549 | Pro-Line 1080-H Hard Vinyl Antifouling Paint
000577-00560 | Sherwin-Williams Seaguard Hard Vinyl Anti-Foulant
000655-00802 | Prentox Larva-Lur contains Propoxur
000675-00019 | Bulk Amphyl Brand Disinfectant
000675-00043 | Amphyl
000706-00105 | Multi-Use Insecticide Fogger
000777-00068 | Lysol Brand Pre-Moistened Touch-Ups Disinfecting Cleaning Wipes
000829-00268 | SA-50 Brand Atrazine 4L Herbicide
001043-00115 | Process Vesphene II ST
001043-00121 | GW002 Tertiary Blend
001124-00057 | Brillo Pinosan
001769-00188 | Acti-Cil Weed Killer
001769-00380 | OWT-908 Microbiocide
002382-00124 | Preventic L.A. IGR
002382-00132 | Flypel
002382-00155 | Permethrin-Pyriproxyfen Residual Shampoo for Dogs #1
002596-00136 | Hartz 2 In 1 Flea & Tick Spray for Cats and Dogs
002686-00017 | Sodium Hypochlorite 10%
002749-00542 | Trifluralin 4 E.C. Herbicide
002749-00546 | Aceto Clethodim 2 EC
002749-00547 | Butoxone 200 Herbicide
002749-00548 | Butoxone SB
002749-00549 | Butoxone Herbicide
002749-00550 | Butoxone 7500 Herbicide
003090-00224 | Sanitized Brand TH 22-27 DM
003377-00020 | Bromine Chloride Disinfectant
004091-00013 | Marquat 72 MUP
004462-00058 | Q-Cide
005473-00005 | Tri-San Sanitizer
007138-00015 | Carpetmaker X-X-X with 0.85 Pendimethalin
007138-00016 | Carpetmaker with 1.30% Pendimethalin Pre-Emergence Crabgrass and Broad
007138-00024 | XX-X-X Lawn Food with 0.069% Bifenthrin Insecticide
007405-00051 | Chemi-Cap Hosp-I-Septic G Surface Disinfectant Deodorant
007546-00006 | Shurguard
008284-00006 | Bissell Disinfectant Spray
008284-00007 | Bissell Disinfectant Bathroom Cleaner
010118-00001 | Whizzer Mat Cleaner & Disinfectant
010308-00031 | Deckmate Mosquito Repellent
010330-00020 | Carbon Dioxide
010707-00003 | Magnacide 407
010707-00025 | Magnacide G100
010707-00026 | Magnacide G 100 W
010707-00029 | Magnacide G113
010707-00049 | X-Cide 380 Industrial Bactericide
010707-00052 | X-Cide 5009 Industrial Bactericide
010772-00005 | Sno Bol Toilet Bowl Cleaner
010807-00443 | Time-Mist Metered Insecticide II
010807-00445 | Purge After Hours Plus Ds
011623-00044 | Total Release Fogger III
011623-00048 | Apollo Contact Insecticide
021165-00062 | Pyranha 1-10 SBA Concentrate
033560-00043 | Bareground 21
035512-00049 | Turf Pride Fertilizer with 2% Sevin Brand Carbaryl Insecticide
035512-00055 | Turf Pride Fertilizer with 0.055% Bifenthrin Insecticide
035512-00058 | Turf Pride Fertilizer with 0.50% Ronstar
035512-00059 | Turf Pride Fertilizer + 0.70% Preemergent Weed Control
036029-00014 | Strychnine Alkaloid N.F.
036029-00016 | Wilco Pocket Gopher Milo Bait for Hand Baiting
036029-00025 | Wilco Gopher Getter Restricted Use Bait
038871-00001 | Copper Carbonate—Dry
038871-00002 | Copper Carbonate—Wet
039959-00001 | A-106
039959-00002 | 7618
039959-00003 | 7619
040391-00003 | Entech Fog-5
040510-00003 | Water Purification Tablets, Iodine 50
041954-00014 | JM Cal Hypo-TSP
042177-00009 | Olympic Algaecide 20
042177-00077 | Ez-Clor Litho Shock
043813-00023 | Evipol 360SL
043813-00024 | Evipol Technical
043813-00029 | Xamox Technical
043813-00030 | Xamox 3OL
043813-00031 | Xamox 10TK
043813-00036 | Xamox 100 SL
043889-00001 | Capsyn
045987-00001 | Doo-Not Dog & Cat Repellent
046043-00019 | T.I.C.A. Technical Tablets 1”
046043-00021 | T.I.C.A. Technical Sticks
046043-00022 | Granular S.D.I.C. 56
046043-00028 | Sodium Bromide Technical
046043-00031 | Suncoast's Pool Algaecide 20
046043-20005 | Suncoast Swimming Pool Chlorinating Shock
046620-00001 | Requat Antimicrobial 1977 Liquid
046781-00010 | Premicide
046923-00010 | OBC Copper Complex NH3
048302-00008 | TFA—10 LA
048302-00013 | Sea Grand Prix 500-Us Part B Antifouling Paint Component
048520-00011 | Phoenix Tiny Tabs
048520-00016 | Poly-50 Algaecide
049403-00036 | JMAC LP10A
049517-00003 | Moore Ag Brand Poly-Foliant V Defoliant-Desiccant
049547-00014 | Antibacterial Festival All Purpose Cleaner
051624-20001 | AQB-035 Algae Control
051978-00001 | Bale Champ
052991-00001 | Bedoukian OFM Technical Pheromone
053257-20004 | Sodium Hypochlorite Solution 5.25%
053575-00019 | Isomate-M 100
053575-00028 | Isomate-OMLR
054705-00011 | Weed Stopper Hose'em
055364-00007 | Control III Elite
056336-00003 | Checkmate (R) OFM
056336-00004 | Checkmate CM Technical Pheromone
056336-00005 | Checkmate CM Hand Applied Dispenser
056336-00008 | Surefire Japanese Beetle Trap
056336-00011 | Consep SPR3 Codling Moth Pheromone Sprayable
056336-00020 | Checkmate PTB-XL
056336-00023 | Consep SPR4M Peach Twig Borer Sprayable Bead Pheromone
056362-00003 | Towerchlor 12.5
058007-00010 | Ultrathon Insect Repellent Wipes
058295-00001 | Barnebey & Sutcliffe Type 989 Bacteriostatic Water Filter Media
060063-00039 | Myclobutanil 2% Homeowner Fungicide
062498-00001 | Pool Pride Granular 62
064014-00009 | Harpoon
066617-00001 | Island Marketing's Bugchaser Brand Insect Repellent Wristband Strip
066784-00003 | Timsen Bar Sanitizer
067517-00014 | Disinfectant
067517-00020 | Iodine Concentrate 3.5
068109-00001 | Sodium Hypochlorite Solution
068329-00017 | Alpha 418
068476-00001 | Bugg-Less
068543-00037 | Bengal Pyrethrins Roach Spray
068543-00039 | Bengal Home Insect Killer
069151-00005 | Steritech-D
069361-00021 | Tebucon 2.9 EW
070305-00001 | Para Mothballs
070369-00002 | Raycide
071058-00001 | Triap 4HF
071532-00027 | Lambdastar 1CS-PCO
071532-00030 | Esfenvalerate 3.5% EC
071532-00031 | Esfenvalerate 3.5% CS-PCO
071661-00001 | Surfacine(R) All Purpose Cleaner
071695-00001 | CS-100 Acid Anionic Sanitizer
071871-00003 | Sterrad Hydrogen Peroxide
072138-00006 | Softpine
072138-00008 | White Cap 15% Pine Oil Cleaner/Disinfectant
072244-00001 | Holiday Fire Ant Killer E. C.
072468-00003 | PMC 360
072468-00005 | Mold Wipes 360
072675-00001 | Sanisorbx
072679-00004 | Copper Paint No.2 Green
072956-00002 | Sanitizer Product
072977-00002 | Axen
073232-00003 | Smart-San D2
073354-00001 | RRSI Amine 2,4-D
073354-00002 | RRSI Dicamba-D
073354-00003 | RRSI LV-6
073499-00001 | ASAP-AGX
073499-00002 | ASAP-AGX-32
073612-00001 | Sentry
074062-00002 | Winpeace(TM) SF-1
074237-00001 | Liquid Toxi Chek Concentrate 8350
074530-00032 | Helmquat 3 SL
074530-00049 | Helm Metolachlor 8E
074530-00050 | Kendo Pro 9.7 CS
074601-00001 | Chlorothalonil Technical Fungicide
074802-00002 | Bacteriostatic Water Conditioner Model AM1O54AG
075369-00001 | CPMCHLOR
075449-00003 | Sodium Bichromate Solution 69%
075801-00002 | Ateze
075829-00002 | H2Pro Clean Start Bottle B
079533-00003 | Coleman Skinsmart Insect Repellent Towelettes
080224-00005 | Ovocontrol G
080286-00002 | Splat PBW 30M-1
080286-00005 | Splat GBM
080286-00006 | Splat LBAM HD
080286-00008 | Splat LBAM LD
080289-00013 | Strada XT
080346-00004 | MDF-500D Part A
080346-00005 | MDF-500D Part B
080656-20001 | Genchlor 12.5%
081114-00001 | Amp21
081391-00001 | Nations AG II, LLC Oxyfluorfen 2 Herbicide
081910-00001 | PCMX
082397-00002 | Chem-Fish Synergized
082397-00003 | Powdered Cube Root
082498-00002 | Grandslam 4XS Herbicide
082498-00003 | Glyphosate 41% Super Concentrate Herbicide
082498-00004 | Glyphosate 2% RTU Herbicide
082534-00003 | Oxy 2EC
082542-00028 | Solera IVM Herbicide
082691-00002 | Stay Clean Additive B
082866-00001 | Paraquat 3SL Herbicide
083030-00001 | Citrex
083403-00001 | Bactiguard Air Filters
083742-00002 | Pond Weed Defense
084195-00001 | Iobio Bacteria, Slime and Algae Control
085340-00001 | Cerro Flow Products
085531-00001 | Mavea Maxtra
085905-00005 | CFL-3%-Diflubenzuron Feedthrough
086363-00014 | KT Propicon 3.6EC
087246-00006 | Cliniweave AV Powder
087373-00001 | Argite Fipronil 96.5% Technical
088050-00001 | Aim-C
088423-00002 | DTN 1000 Antimicrobial

IV. Provisions for Disposition of Existing Stocks

The effective date of cancellation will be the date of the cancellation order. The orders effecting these requested cancellations will generally permit a registrant to sell or distribute existing stocks until January 15, 2014, 1 year after the date on which the fee was due.

Existing stocks are those stocks of registered pesticide products which are currently in the United States and which have been packaged, labeled, and released for shipment prior to the effective date of the cancellation order. Unless the provisions of an earlier order apply, existing stocks already in the hands of dealers or users can be distributed, sold, or used legally until they are exhausted, provided that such further sale and use comply with the EPA-approved label and labeling of the affected product. Exception to these general rules will be made in specific cases when more stringent restrictions on sale, distribution, or use of the products or their ingredients have already been imposed, as in a special review action, or where the Agency has identified significant potential risk concerns associated with a particular chemical.

List of Subjects

Environmental protection, Administrative practice and procedure, Pesticides and pests.

Dated: August 29, 2013.
Steven Bradbury,
Director, Office of Pesticide Programs.

[FR Doc. 2013-22352 Filed 9-17-13; 8:45 am]

BILLING CODE 6560-50-P